EQUAL EMPLOYMENT OPPORTUNITY COMMISSION

Sunshine Act; Notice of Meeting

Date and Time: Wednesday, June 16, 2010, 2 p.m. Eastern Time.

Place: Commission Meeting Room on the First Floor of the EEOC Office Building, 131 M Street, NE., Washington, DC 20507.

Status: The meeting will be closed to the public.

Matters To Be Considered: Closed Session: Proposed Determinations on Petitions to Revoke or Modify Subpoenas.

Note: Any matter not discussed or concluded may be carried over to a later meeting. (In addition to publishing notices on EEOC Commission meetings in the Federal Register, the Commission also provides a recorded announcement a full week in advance on future Commission sessions).

Please telephone (202) 663-7100 (voice) and (202) 663-4074 (TTY) at any time for information.

CONTACT PERSON FOR MORE INFORMATION: Stephen Llewellyn, Executive Officer on (202) 663-4070.

Dated: June 7, 2010.
Stephen Llewellyn,
Executive Officer, Executive Secretariat.

[FR Doc. 2010-13973 Filed 6-7-10; 4:15 pm]

BILLING CODE 6570-01-P